DEPARTMENT OF THE TREASURY

Office of Foreign Assets Control

Notice of OFAC Sanctions Actions

AGENCY: Office of Foreign Assets Control, Treasury.

ACTION: Notice

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On September 17, 2021, OFAC determined that the property and interests in property subject to U.S. jurisdiction of the following persons are blocked under the relevant sanctions authority listed below.

Individuals

1. AL-SHA'IR, Ali (a.k.a. AL-SHAER, Ali), Sultanah, Bint Jbeil, Nabatieh, Lebanon; DOB 26 Jan 1967; citizen Lebanon; Additional Sanctions Information—Subject to Secondary Sanctions Pursuant to the Hizballah Financial Sanctions Regulations; Gender Male; National ID No. 000013901514 (Lebanon) (individual) [SDGT] (Linked To: HIZBALLAH).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, HIZBALLAH, a person whose property and interests in property are blocked pursuant to E.O. 13224.

2. AL-SHATTI, Jamal Husayn 'Abd 'Ali 'Abd-al-Rahim (a.k.a. ALSHATTI, Jamal Hussein Abd Ali; a.k.a. ALSHUTTI, Jamal H A A A), Kuwait; DOB 20 Aug 1964; Gender Male; Passport 004465264 (Kuwait) expires 13 Dec 2021; National ID No. 264082000213 (Kuwait) (individual) [SDGT] (Linked To: HIZBALLAH).

Designated pursuant to section 1(a)(iii)(C) of E.O. 13224, as amended, for having materially assisted, sponsored, or provided financial, material, or technological support for, or goods or services to or in support of, HIZBALLAH, a person whose property and interests in property are blocked pursuant to E.O. 13224, as amended.

3. HADWAN, Hasib Muhammad (a.k.a. HADWAN, Hasib; a.k.a. “ZAYN, Hajj”; a.k.a. “ZAYN, Hajj Mustafa”; a.k.a. “ZEIN, Hajj”), Lebanon; DOB 1959; POB Hazin, Lebanon; Additional Sanctions Information—Subject to Secondary Sanctions Pursuant to the Hizballah Financial Sanctions Regulations; Gender Male; National ID No. 2288073 (Lebanon) (individual) [SDGT] (Linked To: HIZBALLAH).

Designated pursuant to section 1(a)(iii)(A) of E.O. 13224, as amended, for having been owned, controlled, or directed by, or to have acted or purported to act for or on behalf of, directly or indirectly, HIZBALLAH, a person whose property and interests in property are blocked pursuant to E.O. 13224, as amended.

4. ISMAIL, Talib Husayn Ali Jarak, Block 8, Street 20, House No. 33, Jabriya, Kuwait; Street 21, Salem Al Mubarak Avenue, Block 20, Building 13, Salmiya, Kuwait; PO Box 3390, Safat 13034, Kuwait City, Kuwait; PO Box 126, Safat 13002, Kuwait City, Kuwait; Block 8, Street 103, Building 33, Apartment 33, Jabriya, Kuwait; Mubarak Al Kabir, Darwaza abdul Razak Square, Kuwait City, Kuwait; DOB 30 Apr 1956; POB Kuwait City, Kuwait; VisaNumberID 35458806 (United States) expires 22 Apr 2011; alt. VisaNumberID C5288096 (United States) expires 25 Sep 2020 (individual) [SDGT] (Linked To: HIZBALLAH).

Designated pursuant to section 1(a)(iii)(C) of E.O. 13224, as amended, for having materially assisted, sponsored, or provided financial, material, or technological support for, or goods or services to or in support of, HIZBALLAH, a person whose property and interests in property are blocked pursuant to E.O. 13224, as amended.

Dated: September 17, 2021.
Bradley T. Smith,
Acting Director, Office of Foreign Assets Control, U.S. Department of the Treasury.

[FR Doc. 2021-20479 Filed 9-21-21; 8:45 am]

BILLING CODE 4810-AL-P